DEPARTMENT OF HOMELAND SECURITY

Coast Guard

33 CFR Part 165

[Docket No. USCG-2012-1036]

Safety Zones & Special Local Regulations; Recurring Marine Events in Captain of the Port Long Island Sound Zone

AGENCY: Coast Guard, DHS.

ACTION: Notice of enforcement of regulation.

SUMMARY: The Coast Guard will enforce 6 safety zones for 5 fireworks displays and 1 swim event in the Sector Long Island Sound area of responsibility on the dates and times listed in the tables below. This action is necessary to provide for the safety of life on navigable waterways during the events. During the enforcement periods, no person or vessel may enter the regulated area or safety zones without permission of the Captain of the Port (COTP) Sector Long Island Sound or designated representative.

DATES: The regulations in 33 CFR 165.151 will be enforced during the dates and times listed in the SUPPLEMENTARY INFORMATION section.

FOR FURTHER INFORMATION CONTACT: If you have questions on this notice, call or email Petty Officer Scott Baumgartner, Waterways Management Division, U.S. Coast Guard Sector Long Island Sound; telephone 203-468-4559, email Scott.A.Baumgartner@uscg.mil.

SUPPLEMENTARY INFORMATION: The Coast Guard will enforce the safety zones listed in 33 CFR 165.151 on the specified dates and times as indicated in the Tables below. If the event is delayed by inclement weather, the regulation will be enforced on the rain date indicated in the Tables below. These regulations were published in the Federal Register on May 24, 2013 (78 FR 31402).

Table 1 to § 165.151
6 | June
6.4 Salute to Veterans Fireworks | • Date: June 28, 2014.
| • Rain date: June 29, 2014.
| • Time: 9 p.m. to 10:30 p.m.
| • Location: Waters of Reynolds Channel off Hempstead, NY within 600 feet of the fireworks launch site located in approximate position 40°35′36.87″ N, 073°35′20.72″ W (NAD 83).
7 | July
7.12 City of Stamford Fireworks | • Date: July 3, 2014.
| • Rain date: July 5, 2014.
| • Time: 9 p.m. to 10:30 p.m.
| • Location: Waters of Fisher's Westcott cove, Stamford, CT in approximate position 41°02′09.56″ N, 073°30′57.76″ W (NAD 83).
7.13 City of West Haven Fireworks | • Date: July 3 2014.
| • Rain date: July 5, 2014.
| • Time: 8:45 p.m. to 10:30 p.m.
| • Location: Waters of New Haven Harbor, off Bradley Point, West Haven, CT within 800 feet of the fireworks launch site located in approximate position 41°15′07″ N, 072°57′26″ W (NAD 83).
7.23 Riverfest Fireworks | • Date: July 12, 2014.
| • Rain date: July 13, 2014.
| • Time: 4:00 p.m. to 12:00 a.m.
| • Location: Waters of the Connecticut River near Hartford, CT within 800 feet of the center point of four fireworks barges located in approximate position, 41°45′39.93″ N, 072°39′49.14″ W (NAD 83).
7.29 Mashantucket Pequot Fireworks | • Date: July 12, 2014.
| • Rain Date: July 13, 2014.
| • Time: 8:30 p.m. to 10:30 p.m.
| • Location: Waters of the Thames River New London, CT within 1,000 feet of the fireworks barges located in the following approximate positions:
| Barge 1, 41°21′03.31″ N, 072°05′21.54″ W Barge 2, 41°20′51.75″ N, 072°05′18.90″ W (NAD 83).

Table 2 to § 165.151
| August
1.1 Swim Across the Sound | • Date: August 2, 2014.
| • Time: 8:30 a.m. to 7:30 p.m.
| • Location: Waters of Long Island Sound, Port Jefferson, NY to Captain's Cove Seaport, Bridgeport, CT. in approximate positions 40°58′11.71″ N 073°05′51.12″ W, north-westerly to the finishing point at Captain's Cove Seaport 41°09′25.07″ N 073°12′47.82″ W (NAD 83).

Under the provisions of 33 CFR 165.151, the fireworks displays and swim events listed above are established as safety zones. During the enforcement periods, persons and vessels are prohibited from entering into, transiting through, mooring, or anchoring within the regulated area or safety zone unless they receive permission from the COTP or designated representative.

This notice is issued under authority of 33 CFR part 165 and 5 U.S.C. 552(a). In addition to this notice in the Federal Register, the Coast Guard will provide the maritime community with advance notification of this enforcement period via the Local Notice to Mariners or marine information broadcasts. If the COTP determines that the regulated area or safety zone need not be enforced for the full duration stated in this notice, a Broadcast Notice to Mariners may be used to grant general permission to enter the regulated area or safety zone.

Dated: June 13, 2014.
E.J. Cubanski, III,
Captain, U.S. Coast Guard, Captain of the Port Sector Long Island Sound.

[FR Doc. 2014-14993 Filed 6-25-14; 8:45 am]

BILLING CODE 9110-04-P